DEPARTMENT OF THE INTERIOR

Bureau of Land Management

[AZ 210-05-1610-DP-081A-241E]

Notice of Availability of Agua Fria National Monument and Bradshaw-Harquahala Draft Resource Management Plan and Draft Environmental Impact Statement

AGENCY: Bureau of Land Management, Department of the Interior.

ACTION: Notice of availability of Agua Fria National Monument and Bradshaw-Harquahala Draft Resource Management Plan and Draft Environmental Impact Statement.

SUMMARY: In compliance with the Bureau of Land Management (BLM) planning regulations, Title 43 Code of Federal Regulations (CFR) 1610.2(f)(3) and the National Environmental Policy Act (NEPA) Regulations, Title 40 CFR 1502.9(a), the BLM hereby gives notice that the Agua Fria National Monument and Bradshaw-Harquahala Draft Resource Management Plan and Draft Environmental Impact Statement (DRMP/DEIS) is available for public review and comment. The National Monument encompasses 71,000 acres, and the Bradshaw-Harquahala planning area includes another 895,900 acres of the BLM-administered lands.

DATES: Written comments on the DRMP/DEIS will be accepted for 90 days following the date the Environmental Protection Agency publishes the Notice of Availability in the Federal Register. Future meetings or hearings and any other public involvement activities will be announced at least 15 days in advance through local media.

ADDRESSES: Written comments may be mailed to Teri Raml, Phoenix Field Manager, Agua Fria National Monument and Bradshaw-Harquahala Resource Management Plan, Phoenix Field Office, 21605 North 7th Avenue, Phoenix, Arizona 85027. You may also comment via the Internet using the comment tool of the interactive document, which can be accessed from a link on the Arizona Bureau of Land Management web page at http://www.az.blm.gov. Please submit Internet comments using this comment tool. The comment tool requires entering your name and address for comment submission. If you do not receive a confirmation from the system that we have received your Internet message, contact Chris Horyza at (623) 580-5500. Finally, you may hand-deliver comments to the address listed above. Oral comments will be accepted and recorded at any of seven public meetings to be held within 90 days of publication of this Notice. Exact dates, places, and times of public meetings will be posted on the Arizona BLM web page, or you may contact Chris Horyza at (623) 580-5500 for further information.

Public comments, including names and street addresses of respondents, will be available for public review at, Bureau of Land Management, 21605 North 7th Avenue, Phoenix, Arizona 85027 during regular business hours (7:30 a.m. to 4:25 p.m.), Monday through Friday, except holidays. Individual respondents may request confidentiality. If you wish to withhold your name or street address from public review or from disclosure under the Freedom of Information Act, you must state this prominently at the beginning of your comments. Such requests will be honored to the extent allowed by law. All submissions from organizations or businesses, and from individuals identifying themselves as representatives or officials of organizations or businesses, will be made available for public inspection in their entirety.

FOR FURTHER INFORMATION CONTACT: Chris Horyza, Bureau of Land Management, 21605 North 7th Avenue, Phoenix, Arizona 85027; telephone (6223) 580-5500.

SUPPLEMENTARY INFORMATION: A copy of the Agua Fria National Monument and Bradshaw-Harquahala Draft Resource Management Plan and Draft Environmental Impact Statement is available for review via the internet from a link at http://www.az.blm.gov (subject to change); electronic (on CD-ROM) and paper may be obtained from the Bureau of Land Management, Phoenix Field Office. Electronic (on CD-ROM) and paper copies may also be obtained by contacting Chris Horyza at the aforementioned address and telephone number. The Agua Fria National Monument and Bradshaw-Harquahala Draft Resource Management Plan and Draft Environmental Impact Statement is being developed by BLM. The DRMP/DEIS includes strategies for protecting and preserving the biological, cultural, recreational, geological, educational, scientific, and scenic values that the Monument was established to protect, and strategies that balance multiple uses of the BLM-administered lands in the Bradshaw-Harquahala planning area. The preferred alternative attempts to accomplish the above while achieving consistency between Forest Service, Arizona State Land Department, Arizona Game and Fish Department, the BLM, and other land managing agencies within the boundaries of both planning areas. The range of alternatives in this draft evaluates planning decisions brought forward from the current BLM planning documents, including the Lower Gila North Management Framework Plan and the Phoenix Resource Management Plan.

The preferred alternative identifies four potential Areas of Critical Environmental Concern (ACEC): Tule Creek ACEC, 640 acres to protect wildlife, riparian, and cultural resources; Vulture Mountain ACEC, 6,120 acres to protect high value raptor nesting habitat; Black Butte Outstanding Natural Area (ONA) ACEC, 8,260 acres to protect high value raptor nesting sites, rare cultural resources, and scenic values; and Harquahala Mountains ONA ACEC, 74,950 acres to protect unique biological assemblages, high value cultural resources, and outstanding scenic and primitive landscapes. The following types of use limitations would generally apply: (1) Except for Tule Creek, areas would be closed to mineral material disposal but open to other types of mineral development. Tule Creek would be withdrawn from all mineral development; (2) recreation uses would generally be dispersed and undeveloped and may be limited by season or location if ACEC values are threatened; (3) motorized and mechanized travel would be limited to designated routes; (4) vehicle routes that threaten ACEC values would be mitigated or closed; (5) visual resources would be allocated to VRM Class II. For detailed information, see the Special Area Designations sections of Chapter 2.

Records of Decision will be prepared by the BLM for the Agua Fria National Monument Resource Management Plan and the Bradshaw-Harquahala Resource Management Plan in accordance with planning regulations 43 CFR part 1610 and NEPA at 40 CFR part 1502. The Agua Fria National Monument was established by Presidential Proclamation 7263 in January 2000. The Agua Fria National Monument Proclamation of 2000 affects only Federal lands and Federal interests located within the established boundaries.

Dated: September 9, 2005.
Elaine Y. Zielinski,
Arizona State Director.

[FR Doc. 06-115 Filed 1-5-06; 8:45 am]

BILLING CODE 4310-32-M